DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy. U.S. Patent Number 5,520,331 entitled “Liquid atomizing nozzle”, issued on May 28, 1996. U.S. Patent Number 5,721,632 entitled “Excited state polarization altering optical filter”, issued on February 24, 1998. U.S. Patent Number 5,822,047 entitled “Modulator LIDAR system”, issued October 13, 1998. U.S. Patent Number 6,125,270 entitled “Verification system for transmitters and command tone generators”, issued on September 26, 2000. U.S. Patent Number 6,241,164 entitled “Effervescent liquid fine mist apparatus and method”, issued June 5, 2001. U.S. Patent Number 6,249,241 entitled “Marine vessel traffic system”, issued on June 19, 2001. U.S. Patent Number 6,411,450 entitled “Method of assessing the effectiveness of a laser eye protection device”, issued on June 25, 2002. U.S. Patent Number 6,484,072 entitled “Embedded terrain awareness warning system for aircraft”, issued on November 19, 2002. U.S. Patent Number 6,485,142 entitled “Artificial human eye and test apparatus”, issued on November 26, 2002. U.S. Patent Number 6,557,570 entitled “Portable apparatus for cleaning a conduit and method for cleaning a conduit”, issued on May 6, 2003. U.S. Patent Number 6,598,802 entitled “Effervescent liquid fine mist apparatus and method”, issued on July 29, 2003. U.S. Patent Number 6,659,963 entitled “Apparatus for obtaining temperature and humidity measurements”, issued on December 9, 2003. U.S. Patent Number 7,010,339 entitled “Hybrid lidar-radar for medical diagnostics”, issued on March 7, 2006. U.S. Patent Number 7,025,304 entitled “Helicopter messenger cable illumination”, issued on April 11, 2006. U.S. Patent Number 7,156,161 entitled “Lightweight thermal heat transfer apparatus”, issued on January 2, 2007. U.S. Patent Number 7,176,812 entitled “Wireless blade monitoring system and process”, issued on February 13, 2007. U.S. Patent Number 7,180,442 entitled “Target identification method using cepstral coefficients”, issued on February 20, 2007. U.S. Patent Number 7,225,999 entitled “Spray array apparatus”, issued on June 5, 2007. U.S. Patent Number 7,239,311 entitled “Global Visualization Process (GVP) and system for implementing a GVP”, issued on July 3, 2007. U.S. Patent Number 7,284,600 entitled “Process of making a light weight thermal heat transfer apparatus”, issued on October 23, 2007. U.S. Patent Number 7,331,183 entitled “Personal portable environmental control system”, issued on February 19, 2008. U.S. Patent Number 7,380,467 entitled “Bond integrity tool”, issued on June 3, 2008. U.S. Patent Application Number 11/220,189 filed on September 1, 2005, Navy Case Number 76519 entitled “Method for reducing hazards”. U.S. Patent Application Number 10/956,522 filed on September 23, 2004, Navy Case Number 83683 entitled “Method for comparing tabular data”. U.S. Patent Application Number 12/136,427 filed on June 10, 2008, Navy Case Number 83687 entitled “System analysis modeling apparatus and method”. U.S. Patent Application Number 11/845,684 filed on January 26, 2006, Navy Case Number 96334 entitled “Radically compressive rope assembly”. U.S. Patent Application Number 11/973,986 filed on October 15, 2007, Navy Case Number 97027 entitled “System for isolating faults between electrical equipment”. U.S. Patent Application Number 11/900,143 filed on September 5, 2007, Navy Case Number 97946 entitled “Optical bench fiber optic transmitter”. U.S. Patent Application Number 12/056,707 filed on March 28, 2008, Navy Case Number PAX03 entitled “Parachute Opening Shock Emulator (POSE)”. U.S. Patent Application Number 12/111,434 filed on April 30, 2008, Navy Case Number PAX04 entitled “Counter measure expendable load simulator”. U.S. Patent Application Number 12/114,063 filed on May 2, 2008, Navy Case Number PAX05 entitled “Variable intensity LED illumination system”. U.S. Patent Application Number 12/113,387 filed on May 1, 2008, Navy Case Number PAX08 entitled “Method and system for alerting aircrew to unsafe vibration levels”.

ADDRESSES: Request for data and inventor interviews should be director to Mr. Paul Fritz, Naval Air Warfare Center Aircraft Division, Business Office, Office of Research and Technology Applications, Building 505; Room 116, 22473 Millstone Road, Patuxent River, MD 20670, telephone: 301-342-5586 or e-mail: Paul.Fritz@navy.mil.

DATES: Request for data, samples, and inventor interviews should be made prior to November 03, 2008.

FOR FUTHER INFORMATION CONTACT: Mr. Paul Fritz, Office of Research and Technology Applications, Building 505; Room 116, Naval Air Warfare Center Aircraft Division, 22473 Millstone Road, Patuxent River, MD 20670, Telephone: 301-342-5586, Paul.Fritz@navy.mil.

SUPPLEMENTARY INFORMATION: The U.S. Navy intends to move expeditiously to license these inventions. All licensing application packages and commercialization plans must be returned to Naval Air Warfare Center Aircraft Division, Business Office, Office of Research and Technology Applications, Building 505; 22473 Millstone Road, Patuxent River, MD 20670.

The Navy, in its decisions concerning the granting of licenses, will give special consideration to existing licensees, small business firms, and consortia involving small business firms. The Navy intends to ensure that its licensed inventions are broadly commercialized throughout the United States.

PCT application may be filed for each of the patents as noted above. The Navy intends that licensees interested in a license in territories outside of the United States will assume foreign prosecution and pay the cost of such prosecution.

Authority: 35 U.S.C. 207, 37 CFR Part 404.

Dated: September 15, 2008.
T.M. Cruz,
Lieutenant Commander, Judge Advocate General's Corps, U.S. Navy, Federal Register Liaison Officer.

[FR Doc. E8-22043 Filed 9-19-08; 8:45 am]

BILLING CODE 3810-FF-P